ENVIRONMENTAL PROTECTION AGENCY

[EPA-HQ-OAR-2002-0094; FRL-8200-6 ]

Agency Information Collection Activities; Submission to OMB for Review and Approval; Comment Request; Reporting Requirements Under EPA's Climate Leaders Partnership (Renewal); EPA ICR No. 2100.02, OMB Control No. 2060-0532

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 21, 2006.

ADDRESSES: Submit your comments, referencing Docket ID No. EPA-HQ-OAR-2002-0094, to (1) EPA online using www.regulations.gov (preferred method), by e-mail to a-and-r-docket@epamail.epa.gov, or by mail to: EPA Docket Center, Environmental Protection Agency, Air and Radiation Docket and Information Center, MC 6102T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: James Sullivan, Climate Protection Partnerships Division, Office of Atmospheric Programs, 6202J, Environmental Protection Agency, 1200 Pennsylvania Avenue, NW., Washington, DC 20460; telephone number: (202) 343-9241; fax number: (202) 565-2134; e-mail address sullivan.jamest@epa.gov.

SUPPLEMENTARY INFORMATION: EPA has submitted the following ICR to OMB for review and approval according to the procedures prescribed in 5 CFR 1320.12. On June 1, 2006 (71 FR 31177), EPA sought comments on this ICR pursuant to 5 CFR 1320.8(d). EPA received no comments. Any additional comments on this ICR should be submitted to EPA and OMB within 30 days of this notice.

EPA has established a public docket for this ICR under Docket ID No. EPA-HQ-OAR-2002-0094, which is available for online viewing at www.regulations.gov, or in person viewing at the Air and Radiation Docket and Information Center in the EPA Docket Center (EPA/DC), EPA West Building, Room B102, 1301 Constitution Avenue, NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, CBI, or other information whose public disclosure is restricted by statute. For further information about the electronic docket, go to www.regulations.gov.

Title: Reporting Requirements Under EPA's Climate Leaders Partnership (Renewal).

ICR numbers: EPA ICR No. 2100.02, OMB Control No. 2060-0532.

ICR Status: This ICR is scheduled to expire on September 30, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and included on the related collection instrument or form, if applicable.

Abstract: In an effort to aid implementation of U.S. commitments in the United Nations Framework Convention on Climate Change, the President announced a Climate Change Strategy on February 14, 2002, wherein he set a national U.S. GHG intensity goal of 18 percent by 2012. Part of that strategy challenges companies to set GHG reduction goals by working with EPA through the voluntary Climate Leaders program. EPA has developed this renewal ICR to ensure that the program remains credible by obtaining continued authorization to collect information from Climate Leaders Partners to ensure the Partners are meeting their GHG goals over time. Companies that join Climate Leaders voluntarily agree to the following: Completing and submitting a Partnership Agreement; negotiating a corporate GHG reduction goal; submitting a GHG inventory management plan; participating in an onsite review of the inventory management plan, and reporting to EPA, on an annual basis, the company's GHG emissions inventory, and progress toward their GHG reduction goal via Climate Leaders Annual GHG Inventory Summary and Goal Tracking Form. The information contained in the inventories of the companies that join Climate Leaders may be considered confidential business information and is maintained as such. EPA uses the data obtained from the companies to assess the success of the program in achieving its GHG reduction goals. Responses to the information collection are voluntary.

Burden Statement: The annual public reporting and recordkeeping burden for this collection of information is estimated to equal 11,955 hours and to average 94.13 hours per year per respondent. The average number of annual burden hours on first year partners for each type of one-time response is: 9.67 hours to complete and submit a Partnership Agreement, 46.75 hours for documenting and submitting an Inventory Management Plan, 22.25 hours participating in an on-site verification of the Inventory Management Plan, 41 hours for negotiating and setting a GHG reduction goal, 117.5 hours for establishing a base year inventory, and 3.5 hours to submit a company profile that is posted on the Web. For all other partners who have been part of the program for longer than one year, the average number of annual burden hours is 67 hours for verifying and updating the Annual GHG Inventory Summary and Goal Tracking Form one time per year.

Partners may also submit voluntary updates of company profiles or contact information, via the Climate Leaders Web site or e-mail. These updates would take 3 hours per response. All of these activities are included in the annual burden estimate.

There are no capital or start-up costs associated with this information collection. The average annual operation and maintenance cost resulting for this collection of information is $3 per respondent. The average annual labor cost is $6,914 per respondent. The resulting total annual cost averaged over the three year period is $878,176.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Climate Leaders Partner Corporations.

Estimated Number of Respondents: 127.

Frequency of Response: Annually, on occasion, one-time.

Estimated Total Annual Hour Burden: 11,955.

Estimated Total Annual Cost: $878,000, includes $0 annual capital/startup costs, $60 annual O&M costs and $878,000 annual labor costs.

Changes in the Estimates: There is an increase of 6,841 hours in the total estimated burden compared with that identified in the ICR currently approved by OMB. This increase includes an adjustment of 4,637 hours and a program change of 2,204 hours. This increase reflects an evolution of the Climate Leader Partnership which has modified the reporting and tracking procedures in order to continue to assess the program's effectiveness. EPA has collaborated with partners to develop these revised reporting requirements, which are better suited for establishing and tracking progress of corporate GHG reduction goals. This change is result of a more interactive program approach between EPA and Climate Leaders partners and a larger number of partners in the program since the currently approved ICR.

Dated: July 12, 2006.
Sara Hisel McCoy,
Acting Director, Collection Strategies Division.

[FR Doc. E6-11527 Filed 7-19-06; 8:45 am]

BILLING CODE 6560-50-P